DEPARTMENT OF HOMELAND SECURITY

Coast Guard

33 CFR Part 165

[Docket No. USCG-2024-0810]

Safety Zone; Monte Foundation Fireworks, Monterey Bay, Capitola, CA

AGENCY: Coast Guard, DHS.

ACTION: Notification of enforcement of regulation.

SUMMARY: The Coast Guard will enforce the safety zone for the Monte Foundation Fireworks display in the Captain of the Port, San Francisco area of responsibility during the dates and times noted below. This action is necessary to protect life and property of the maritime public from the hazards associated with the fireworks display. During the enforcement period, unauthorized persons or vessels are prohibited from entering into, transiting through, or anchoring in the safety zone, unless authorized by the Patrol Commander (PATCOM) or other Federal, State, or local law enforcement agencies assisting the Coast Guard in enforcing the regulated area.

DATES: The regulations in 33 CFR 165.1191, will be enforced for the location in Table 1 to § 165.1191, Item number 22, from 7:30 p.m. through 9 p.m. on October 13, 2024.

FOR FURTHER INFORMATION CONTACT: If you have questions about this notification of enforcement, call or email Lieutenant William Harris, U.S. Coast Guard Sector San Francisco, Waterways Management Division; telephone (415) 399-7443, email SFWaterways@uscg.mil.

SUPPLEMENTARY INFORMATION: The Coast Guard will enforce the safety zone established in 33 CFR 165.1191 Table 1, Item number 22, for the Monte Foundation Fireworks display from 7:30 p.m. through 9 p.m. on October 13, 2024.

The safety zone will extend to all navigable waters of the Monterey Bay, from surface to bottom, within a circle formed by connecting all points 1,000 feet out from the fireworks launch site on the Capitola Pier, in Capitola, CA centered on position 36°58′8.4″ N, 121°57′11.6″ W (NAD 83). This zone will be in effect starting from 7:30 p.m., which is 30 minutes prior to the fireworks display scheduled to begin at approximately 8 p.m. and conclude at 9 p.m. on October 13, 2024.

In addition to this notification of enforcement in the Federal Register, the Coast Guard plans to provide notification of this enforcement period via the Local Notice to Mariners and Broadcast Notice to Mariners.

Under the provisions of 33 CFR 165.1191, unauthorized persons or vessels are prohibited from entering into, transiting through, or anchoring in the safety zone during all applicable effective dates and times, unless authorized to do so by the PATCOM or other Official Patrol defined as a federal, state, or local law enforcement agency on scene to assist the Coast Guard in enforcing the regulated area. Additionally, each person granted permission to enter the zone who receives notice of a lawful order or direction issued by the PATCOM or Official Patrol must obey the order or direction. The PATCOM or Official Patrol, may, upon request, allow the transit of commercial vessels through regulated areas when it is safe to do so.

If the Captain of the Port determines that the regulated area need not be enforced for the full duration stated in this notice, a Broadcast Notice to Mariners may be used to grant general permission to enter the regulated area.

Dated: September 27, 2024.
Jordan M. Baldueza,
Captain, U.S. Coast Guard, Captain of the Port San Francisco.

[FR Doc. 2024-22973 Filed 10-3-24; 8:45 am]

BILLING CODE 9110-04-P